DEPARTMENT OF AGRICULTURE

Rural Utilities Service

7 CFR Parts 1709, 1714, 1735, 1737, 1738, 1739, 1740, 1774, 1775, 1776, 1777, 1778, 1779, 1780, 1781, and 1783

Rural Business-Cooperative Service

Rural Housing Service

Rural Utilities Service

Farm Service Agency

7 CFR Parts 1806, 1810, 1822, 1900, 1901, 1902, 1910, 1924, 1925, 1927, 1940, 1942, 1944, 1948, 1950, 1951, 1955, 1956, 1957, 1962, and 1980

Rural Housing Service

7 CFR Parts 3550, 3560, 3570, and 3575

Rural Business-Cooperative Service

Rural Utilities Service

7 CFR Parts 4274, 4279, 4280, 4284, 4288, and 4290

RIN 0570-AA91

Rural Development Regulations—Update to FmHA References and to Census References

AGENCY: Rural Business-Cooperative Service, Rural Housing Service, Rural Utilities Service, Farm Service Agency, U.S. Department of Agriculture (USDA).

ACTION: Correction; direct final rule.

SUMMARY: This document corrects technical errors in the direct final rule that appeared in the Federal Register on February 24, 2015, entitled “Rural Development Regulations—Update to FmHA References and to Census Regulations.”

DATES: This document is effective April 27, 2015.

FOR FURTHER INFORMATION CONTACT: Kenneth Meardon, Policy Advisor, Rural Business-Cooperative Service, U.S. Department of Agriculture, STOP 3201, 1400 Independence Avenue SW., Washington, DC 20250-3225; email: ken.meardon@wdc.usda.gov; telephone (202) 260-8296.

SUPPLEMENTARY INFORMATION: In the FR Doc. 2015-01571 of February 24, 2015 (80 FR 9856), there are four technical errors and they are being corrected through this notice as found in the Correction of Errors section below.

On page 9856, first column, we inadvertently used the incorrect RIN number. The correct RIN number is 0570-AA91, not 0570-AA30.

On page 9912, we inadvertently updated an “outdated” definition of “Rural area” found in 7 CFR 4274.302. The subject definition (Rural or rural area) had already been updated in a June 3, 2014 Federal Register notice (79 FR 31845). Therefore, there was no need for the February 24, 2015 Federal Register notice to make any changes to the definition found in the June 3, 2014 Federal Register notice.

On page 9913, we inadvertently used an older version of the definition of “Rural area” found in 7 CFR 4280.3. The subject definition had already been updated in a May 30, 2007 Federal Register notice (79 FR 29843). Therefore, there was no need for the February 24, 2015 Federal Register notice to make any changes to the definition found in the May 30, 2007 Federal Register notice at this time.

On page 9913, we unnecessarily made edits to two definitions (Long-term and Rural and rural areas) as the entire subpart in which these definitions are found is being replaced with a new regulation.

In FR Doc. 2015-01571 of February 24, 2015 (80 FR 9856), make the following corrections:

1. On page 9856, in the first column, remove “RIN 0570-AA30” and insert “RIN 0570-AA91” in its place.

2. On page 9912, in the third column, remove amendatory Instruction 417 in its entirety.

3. On page 9913, in the second column, remove amendatory Instruction 422 in its entirety.

4. On page 9913, in the third column, remove amendatory Instruction 429 in its entirety.

Dated: March 16, 2015.
Lisa Mensah,
Under Secretary, Rural Development.
Dated: March 17, 2015.
Michael Scuse,
Under Secretary, Farm and Foreign Agricultural Services.

[FR Doc. 2015-06627 Filed 3-25-15; 8:45 am]

BILLING CODE 3410-XY-P